DEPARTMENT OF TRANSPORTATION

Federal Aviation Administration

14 CFR Part 97

[Docket No. 31438; Amdt. No. 4017]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPS) and associated Takeoff Minimums and Obstacle Departure procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 21, 2022. The compliance date for each SIAP, associated Takeoff Minimums, and ODP is specified in the amendatory provisions.

The incorporation by reference of certain publications listed in the regulations is approved by the Director of the Federal Register as of July 21, 2022.

ADDRESSES: Availability of matters incorporated by reference in the amendment is as follows:

For Examination

1. U.S. Department of Transportation, Docket Ops—M30. 1200 New Jersey Avenue SE, West Bldg., Ground Floor, Washington, DC 20590-0001.

2. The FAA Air Traffic Organization Service Area in which the affected airport is located;

3. The office of Aeronautical Information Services, 6500 South MacArthur Blvd., Oklahoma City, OK 73169 or,

4. The National Archives and Records Administration (NARA). For information on the availability of this material at NARA, email fr.inspection@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone (405) 954-4164.

SUPPLEMENTARY INFORMATION: This rule amends 14 CFR part 97 by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA Forms 8260-3, 8260-4, 8260-5, 8260-15A, 8260-15B, when required by an entry on 8260-15A, and 8260-15C.

The large number of SIAPs, Takeoff Minimums and ODPs, their complex nature, and the need for a special format make publication in the Federal Register expensive and impractical. Further, airmen do not use the regulatory text of the SIAPs, Takeoff Minimums or ODPs, but instead refer to their graphic depiction on charts printed by publishers or aeronautical materials. Thus, the advantages of incorporation by reference are realized and publication of the complete description of each SIAP, Takeoff Minimums and ODP listed on FAA form documents is unnecessary. This amendment provides the affected CFR sections and specifies the typed of SIAPS, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPs as identified in the amendatory language for Part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flights safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

Lists of Subjects in 14 CFR Part 97

Air Traffic Control, Airports, Incorporation by reference, Navigation (Air).

Issued in Washington, DC, on July 8, 2022.
Thomas J. Nichols,
Aviation Safety, Flight Standards Service, Manager, Standards Section, Flight Procedures & Airspace Group, Flight Technologies & Procedures Division.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for Part 97 continues to read as follows:

Authority: 49 U.S.C. 106(f), 106(g), 40103, 40106, 40113, 40114, 40120, 44502, 44514, 44701, 44719, 44721-44722.

2. Part 97 is amended to read as follows:

Effective 11 August 2022

Louisville, GA, 2J3, RNAV (GPS) RWY 31, Orig-A

Mc Call, ID, KMYL, RNAV (GPS) RWY 34, Amdt 1B

Alexandria, LA, KAEX, RNAV (GPS) RWY 14, Amdt 1C

Alexandria, LA, KAEX, RNAV (GPS) RWY 36, Orig-D

Ann Arbor, MI, KARB, RNAV (GPS) RWY 24, Amdt 2F

Frankfort, MI, KFKS, RNAV (GPS) RWY 33, Amdt 1C

Greenwood, MS, KGWO, RNAV (GPS) RWY 5, Amdt 2B

Fremont, NE, KFET, Takeoff Minimums and Obstacle DP, Amdt 6B

Clearfield, PA, KFIG, RNAV (GPS) RWY 12, Orig-C

Bamberg, SC, 99N, Takeoff Minimums and Obstacle DP, Orig-A

Shelbyville, TN, KSYI, VOR RWY 18, Amdt 5C

Barre/Montpelier, VT, KMPV, RNAV (GPS) RWY 17, Amdt 1C

Effective 8 September 2022

Bonifay, FL, KBCR, RNAV (GPS) RWY 19, Orig-E

Milledgeville, GA, KMLJ, NDB RWY 28, Amdt 5

Hugoton, KS, KHQG, NDB RWY 2, Amdt 3, CANCELLED

Lake Charles, LA, KLCH, ILS OR LOC RWY 15, Amdt 23A

Falmouth, MA, KFMH, COPTER ILS Y OR LOC Y RWY 32, Orig

Falmouth, MA, KFMH, ILS Z OR LOC Z RWY 32, Amdt 2

Lawrence, MA, KLWM, RNAV (GPS) RWY 14, Orig

Lawrence, MA, KLWM, RNAV (GPS) RWY 32, Orig

Wiggins, MS, M24, RNAV (GPS) RWY 17, Orig

Wiggins, MS, M24, RNAV (GPS) RWY 35, Orig

Wiggins, MS, M24, Takeoff Minimums and Obstacle DP, Orig

Albemarle, NC, KVUJ, ILS OR LOC RWY 22L, Amdt 1D

Albemarle, NC, KVUJ, RNAV (GPS) RWY 22L, Orig-B

Newark, NJ, KEWR, Takeoff Minimums and Obstacle DP, Amdt 5A

RESCINDED: On July 6, 2022 (87 FR 40095), the FAA published an Amendment in Docket No. 31436, Amdt No. 4015, to Part 97 of the Federal Aviation Regulations under section 97.29, and 97.33. The following entries for, Selma, AL, Little Rock, AR, and Louisville, KY, effective August 11, 2022, are hereby rescinded in their entirety:

Selma, AL, KSEM, ILS Y OR LOC Y RWY 33, Amdt 1

Selma, AL, KSEM, ILS Z OR LOC Z RWY 33, Amdt 3

Little Rock, AR, KLIT, ILS OR LOC RWY 4L, Amdt 26C

Louisville, KY, KSDF, ILS OR LOC RWY 17R, Amdt 4A

Louisville, KY, KSDF, ILS OR LOC RWY 35L, ILS RWY 35L (SA CAT I), ILS RWY 35L (CAT II), ILS RWY 35L (CAT III), Amdt 4A

Louisville, KY, KSDF, RNAV (GPS) Y RWY 17L, Amdt 1G

[FR Doc. 2022-15463 Filed 7-20-22; 8:45 am]

BILLING CODE 4910-13-P